DEPARTMENT OF ENERGY

Federal Energy Regulatory Commission

Combined Notice of Filings #1

Take notice that the Commission received the following electric rate filings:

Docket Numbers: ER02-2001-000; ER10-1304-002.

Applicants: DownEast Power Company, LLC.

Description: Request for Waiver of Downeast Power Company, LLC requires time to learn and submit the EQR's.

Filed Date: 7/8/14.

Accession Number: 20140708-5017.

Comments Due: 5 p.m. ET 7/29/14.

Docket Numbers: ER14-1485-001.

Applicants: PJM Interconnection, L.L.C.

Description: Deficiency Filing ER14-1485-000 to be effective 6/11/2014.

Filed Date: 7/7/14.

Accession Number: 20140707-5181.

Comments Due: 5 p.m. ET 7/28/14.

Docket Numbers: ER14-1772-001.

Applicants: Oklahoma Cogeneration, LLC.

Description: Notice of Non-Material Change in Status of Oklahoma Cogeneration, LLC.

Filed Date: 7/8/14.

Accession Number: 20140708-5048.

Comments Due: 5 p.m. ET 7/29/14.

Docket Numbers: ER14-2158-000.

Applicants: Midcontinent Independent System Operator, Inc.

Description: 2014-07-08_SA 2669 NIPSCO-Zimmerman GIA Supplement to be effective N/A.

Filed Date: 7/8/14.

Accession Number: 20140708-5072.

Comments Due: 5 p.m. ET 7/29/14.

Docket Numbers: ER14-2187-002.

Applicants: Grand Ridge Energy Storage LLC.

Description: Second Supplement to Market-Based Rate Application to be effective 8/16/2014.

Filed Date: 7/8/14.

Accession Number: 20140708-5036.

Comments Due: 5 p.m. ET 7/29/14.

Docket Numbers: ER14-2363-000.

Applicants: Southwestern Public Service Company.

Description: Request for Waiver of Southwestern Public Service Company.

Filed Date: 7/3/14.

Accession Number: 20140703-5110.

Comments Due: 5 p.m. ET 7/24/14.

Docket Numbers: ER14-2372-000.

Applicants: California Independent System Operator Corporation.

Description: 2014-05-29_OMS to be effective 9/22/2014.

Filed Date: 7/7/14.

Accession Number: 20140707-5170.

Comments Due: 5 p.m. ET 7/28/14.

Docket Numbers: ER14-2373-000.

Applicants: Avista Corporation.

Description: Avista Corp OATT Order 792 Compliance Filing to be effective 8/3/2014.

Filed Date: 7/8/14.

Accession Number: 20140708-5000.

Comments Due: 5 p.m. ET 7/29/14.

Docket Numbers: ER14-2375-000.

Applicants: PJM Interconnection, L.L.C.

Description: Queue Position Y3-037; First Revised Service Agreement No. 3629 to be effective 6/6/2014.

Filed Date: 7/8/14.

Accession Number: 20140708-5037.

Comments Due: 5 p.m. ET 7/29/14.

Docket Numbers: ER14-2376-000.

Applicants: ISO New England Inc., New England Power Pool Participants Committee.

Description: MR 1 Offer Flexibility Conforming Changes to be effective 12/3/2014.

Filed Date: 7/8/14.

Accession Number: 20140708-5038.

Comments Due: 5 p.m. ET 7/29/14.

Docket Numbers: ER14-2377-000.

Applicants: Consumers Energy Company.

Description: Consumers Energy Company submits Notice of Cancellation of Rate Schedule Nos. 105 and 106.

Filed Date: 7/8/14.

Accession Number: 20140708-5061.

Comments Due: 5 p.m. ET 7/29/14.

Docket Numbers: ER14-2378-000.

Applicants: The Connecticut Light and Power Company.

Description: Amendement to CLP and CMEEC WDS Agreement—Electric Rate Schedule FERC NO. WD-1 to be effective 9/6/2014.

Filed Date: 7/8/14.

Accession Number: 20140708-5074.

Comments Due: 5 p.m. ET 7/29/14.

Docket Numbers: ER14-2379-000.

Applicants: PJM Interconnection, L.L.C.

Description: Rev to OATT Att K-Appx Sec 1.3 and OA Sched 1 Sec 1.3—Def of Zonal Base Load to be effective 9/8/2014.

Filed Date: 7/8/14.

Accession Number: 20140708-5081.

Comments Due: 5 p.m. ET 7/29/14.

Docket Numbers: ER14-2380-000.

Applicants: Seminole Retail Energy Services, L.L.C.

Description: MBR Tariff Filing to be effective 6/12/2014.

Filed Date: 7/8/14.

Accession Number: 20140708-5082.

Comments Due: 5 p.m. ET 7/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 8, 2014.
Nathaniel J. Davis, Sr.,
Deputy Secretary.

[FR Doc. 2014-16554 Filed 7-14-14; 8:45 am]

BILLING CODE 6717-01-P